DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Gulf of Alaska Ecosystem Indicator Selection.

OMB Control Number: 0648-xxxx.

Form Number(s): NA.

Type of Request: Regular (request for a new information collection).

Number of Respondents: 70.

Average Hours per Response: 30 minutes.

Burden Hours: 35.

Needs and Uses: This request is for a new information collection.

The goal of this project is to select a short (8-10) list of ecosystem indicators for the Gulf of Alaska that will form the basis of a Gulf of Alaska (GOA) Report Card and Ecosystem Assessment to include in the NOAA's Ecosystem Considerations report. This report is produced annually as part of the Stock Assessment and Fishery Evaluation report for the North Pacific Fishery Management Council. The format of the new GOA Report Card and Ecosystem Assessment will be similar to those that have been produced in recent years for the eastern Bering Sea and Aleutian Islands.

The primary recipients, considered to be the stakeholders, of the Report Card and Ecosystem Assessment are those involved with the fishery quota-setting process for the North Pacific Fisheries Management Council. This includes the Science and Statistical Committee and the regional Plan Teams, which of are composed of mainly federal and state scientists, academics, and other individuals. Additional recipients include the Advisory Panel, Council, and stock assessment scientists. The Report Card and Ecosystem Assessment are also made available to the public.

For the purposes of this project, ecosystem indicators are defined as time-series of data that measure some component of the ecosystem. Hundreds of indicators are available for the GOA, which is defined as the Canadian-U.S. boundary at Dixon Entrance to the east and False Pass to the west. The main objective of the survey is to have participants rank the importance of ecosystem indicators among lists of indicators that are presented; the surveys will then be compiled to generate a list of top indicators. We have developed a non-exhaustive list of about 75 ecosystem indicators that are grouped by categories based on ecosystem components, such as forage fish or seabirds. Participants will be asked to select the top three within each category, then the top ten among all categories. Space is provided for suggestions of additional indicators not included. We will use these rankings to form the basis of a new GOA report card and ecosystem assessment.

Affected Public: Individuals; not-for-profit institutions; state, local and tribal government; business or other for-profit organizations.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: September 26, 2014.
Gwellnar Banks,
Management Analyst, Office of the Chief Information Officer.

[FR Doc. 2014-23388 Filed 9-30-14; 8:45 am]

BILLING CODE 3510-22-P